DEPARTMENT OF HOMELAND SECURITY

Fiscal Year 2024 Senior Executive Service Performance Review Boards

AGENCY: Department of Homeland Security.

ACTION: Notice.

SUMMARY: This notice announces the appointment of members of the Fiscal Year (FY) 2024 Senior Executive Service (SES) Performance Review Boards (PRBs) for the Department of Homeland Security (DHS). The purpose of the PRBs is to make recommendations to the appointing authority (i.e., Component Head) on the performance of senior executives (career, noncareer, and limited appointees), including recommendation on performance ratings, performance-based pay adjustments, and performance awards. The PRBs will also make recommendations on the performance of Transportation Security Executive Service, Senior-Level, and Scientific and Professional employees. To make its recommendations, the PRBs will review performance appraisals, initial summary ratings, any response by the employee, and any higher-level official's recommendation.

DATES: This notice is applicable as of October 30, 2024.

FOR FURTHER INFORMATION CONTACT: Christian Fajardo, Human Resources Specialist, Office of the Chief Human Capital Officer, christian.fajardo@hq.dhs.gov, 771-200-0392.

SUPPLEMENTARY INFORMATION: In accordance with 5 U.S.C. 4314(c) and 5 CFR 430.311, each agency must establish one or more PRBs to make recommendations to the appointing authority (i.e., Component Head) on the performance of its senior executives. Each PRB must consist of three or more members. More than one-half of the membership of a PRB must be SES career appointees when reviewing appraisals and recommending performance-based pay adjustments or performance awards for career appointees. Composition of the specific PRBs will be determined on an ad hoc basis from among the individuals listed below:

List of Names (Alphabetical Order)

Alles, Randolph D

Alpha, Avery

Antognoli, Anthony

Arnold, Jason

Baker, Paul E

Barrera, Staci A

Bartz, Christopher

Belcher, Brian C

Berger, Katrina W

Bornstein, Joshua

Brewer, Julie S

Bryson, Tony

Burriesci, Kelli A

Canevari, Holly E

Carraway, Melvin J

Cleary, Jennifer S

Cline, Richard K

Cook, Charles

Dawson, Inga I

DeNayer, Larry C

Doyle, Kerry

Dragani, Nancy J

Dunbar, Susan C

Eddy, Joseph A

Edwards, B. Roland

Edwards, Hannah

Emrich, Matthew D

Escobar Carrillo, Felicia A

Fenton, Jennifer M

Fitzmaurice, Stacey D

Fong, Heather

Franklin, Tami K

Frazier, Sterling

Gamble, Julius

Gorman, Chad M

Griggs, Christine

Harris, Melvin

Harrison, Kimberly R

Harvey, Melanie K

Havranek, John F

Higgins, Jennifer B

Hitt, Lucas

Holtzer, Christopher R

Hott, Russell E

Hough, Elizabeth

Huse, Thomas F

Hutchinson, Kimberly S

James, Michele M

Judson, Paul

Kaufer, Lauren

Kerner, Francine

Kim, Myung

Kolmstetter, Elizabeth

Lambert, Brian S

Lambeth, John

Logan, Christopher P

Lorincz, Csaba I

Maliga, Ted J

Marcott, Stacy

Maykovich, Vincent

McCane, Bobby J

McCleary Stephen

Meckley, Tammy M

Medlock, Samantha

Nally, Kevin J

Navarro, Donna M

Nelson, Jason L

Nolan, Connie L

Ocker, Ronald J

Padilla, Kenneth

Palmer, David J

Payne, Matthew

Peters, Jenna R

Quinn, Timothy J

Rezmovic, Jeffrey M

Roddini Ariana M

Roncone, Stephen A

Rowe Jr., Ronald L

Scanlon, Julie A

Scott, Kika M

Short, Victoria D

Sjoberg-Radway, Cynthia

Smith, David M

Smith, Frederick B

Spillars, Andrea K

Stainsby, Leiloni

Stiefel, Nathaniel I

Stuntz, Shelby

Tierney, MaryAnn

Torres, David M

Travis, Alexandra

Valverde, Michael

Venture, Veronica

Vitello, Caleb

Walker Hall, Delisa D

Watkins, Tracey L

Wilson, Miltom D

Windham, Nicole

Dated: October 28, 2024.
Greg Ruocco,
Director, Executive Resources, Office of the Chief Human Capital Officer.

[FR Doc. 2024-25363 Filed 10-28-24; 4:15 pm]

BILLING CODE 9112-FC-P